DEPARTMENT OF THE INTERIOR

National Natural Landmark Designations

AGENCY: National Park Service, Department of the Interior.

ACTION: Public Notice of National Natural Landmark Designations.

SUMMARY: On January 16, 2009, then Secretary of the Interior Dirk Kempthorne designated the following National Natural Landmarks: Big Bone Lick, Boone County, Kentucky; Cave Without a Name, Kendall County, Texas; Chazy Fossil Reef, Grand Isle County, Vermont and Clinton County, New York; and Nottingham Park Serpentine Barrens, Chester County, PA

FOR FURTHER INFORMATION CONTACT: Dr. Margaret Brooks, National Natural Landmark Program Manager, at 520-791-6470.

SUPPLEMENTARY INFORMATION: The Secretary of the Interior established the National Natural Landmarks Program in 1962, under the authority of the Historic Sites Act of 1935 (16 U.S.C. 461 et seq.). The National Park Service manages this program using regulations found at 36 CFR part 62. Potential natural landmarks are identified in studies by the NPS and from other sources, evaluated by expert natural scientists, and if determined nationally significant, designated as landmarks by the Secretary of the Interior. When designated, a landmark is included in the National Registry of Natural Landmarks, which currently lists 586 National Natural Landmarks nationwide. Of the 586 listed landmarks, half are administered solely by public agencies; i.e., Federal, State, county or municipal governments. Nearly one-third are owned solely by private parties.

National Natural Landmark designation is not a land withdrawal, does not change the ownership of an area, does not dictate activity, and does not imply a right of public access. However, Federal agencies should consider impacts to the unique properties of these nationally significant areas in carrying out their responsibilities under the National Environmental Policy Act (42 U.S.C. 4321 et seq.). Designation could result in State or local planning or land use implications. National Natural Landmark preservation is made possible by the long-term, voluntary commitments of public and private owners to protect the outstanding values of the areas. Information on the National Natural Landmarks Program can be found in 36 CFR part 62 or on the Internet at http://www.nature.nps.gov/nnl.

Site Descriptions:

The Big Bone Lick site is located within the State of Kentucky, southwest of Cincinnati, Ohio, and is unique in the Interior Low Plateaus for its combination of salt springs and associated late Pleistocene bone beds. Many types of animals, especially large herbivores, were attracted to the springs for salt, and became mired in the mud. The site became a burial ground over time. Layers of disarticulated bones have been uncovered to depths of 30 feet. The site has been referred to as a major New World fossil locality, and plays an important role in the development of scientific thought on the concept of extinction and the relationship of geology/paleontology.

Cave Without a Name is located outside of Boerne, Texas, and is significant for some of the largest and best examples of speleothems in the Edwards Plateau region. Blue speleothems found in the cave are the only ones known to exist in Texas and are exceedingly rare nationally. The cave also contains a rich fauna and significant paleontological deposits.

The Chazy Fossil Reef is a surface exposure of an Ordovician fossil reef, approximately 450 million years old. It is significant as the oldest known occurrence of a biologically diverse fossil reef, the earliest appearance of fossil coral in a reef environment, and the first documented example of the ecological principle of faunal succession.

The Nottingham Park Serpentine Barrens site is an outstanding example of the serpentine barren natural feature in the Piedmont Upland region. This feature is characterized by thin soils that are high in concentrations of metals which are toxic to many plant species. The site supports shallow serpentine soils, rock outcrops, and unique vegetation communities, including serpentine grasslands and open savanna that contain rare and endemic species. The site is within a county park and is actively used for science and education.

Dated: December 22, 2009.
Herbert C. Frost,
Associate Director, Natural Resource Stewardship and Science.

Editorial Note: This document was received in the Office of the Federal Register on November 5, 2010.

[FR Doc. 2010-28426 Filed 11-9-10; 8:45 am]

BILLING CODE P